DEPARTMENT OF COMMERCE

National Oceanic and Atmospheric Administration

RIN 0648-XE665

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, Wednesday and Thursday, June 21, 22, and 23, 2016. It will start at 9 a.m. on June 21, 8:30 a.m. on June 22, and at 8 a.m. on June 23.

ADDRESSES: The meeting will be held at the Holiday Inn by the Bay, 88 Spring Street, Portland, ME 04101; telephone: (800) 345-5050; or online at http://www.innbythebay.com/. Council address: New England Fishery Management Council, 50 Water Street, Mill 2, Newburyport, MA 01950; telephone: (978) 465-0492.

FOR FURTHER INFORMATION CONTACT: Thomas A. Nies, Executive Director, New England Fishery Management Council; telephone: (978) 465-0492, ext. 113.

SUPPLEMENTARY INFORMATION:

Agenda

Tuesday, June 21, 2016

After introductions and any announcements, the Council meeting will open with brief reports from the NEFMC Chairman and Executive Director, the NOAA Regional Administrator for the Greater Atlantic Region (GAR), Northeast Fisheries Science Center and Mid-Atlantic Fishery Management Council liaisons, NOAA General Counsel and Office of Law Enforcement representatives, and staff from the Atlantic States Marine Fisheries Commission and the U.S Coast Guard. Following these reports, the Enforcement/VMS Committee will review feedback from other species committees on the Office of Law Enforcement's priorities, as well as recommendations on other issues. A public comment period is then scheduled during which any member of the public may bring issues forward that relate to Council business but are not included on the published agenda for this meeting. Next, BOEM will update the Council on the status of offshore wind leasing in the Atlantic and discuss a request for comments on the site assessment and site characterization activities proposed off NY. After a lunchbreak, the NEFMC's Small Mesh Multispecies will review a progress report on the small-mesh multispecies (whiting/hake) fishery fleet history to develop limited access alternatives for Amendment 22, and reconsider proceeding with development of this action. Next, the Northeast Fisheries Science Center will provide a presentation on its Draft Climate Regional Action Plan. Under the Scientific and Statistical Committee report the Council will receive an update on SSC discussions about improving groundfish catch advice, provide its comments on the Risk Policy Working Group's “roadmap,” its comments on the five-year review of the scallop limited access general category ITQ program, and comments on the Draft Northeast Regional Climate Science Action Plan. Before adjourning for the day the Council will develop NEFMC comments on this plan.

Wednesday, June 22, 2016

The second day of the meeting will begin with a review of NOAA Fisheries' proposed rule for Atlantic sturgeon critical habitat. During this morning session, the Scallop Committee will discuss initiating Framework Adjustment 28—fishery specifications for 2017-18, and discuss management alternatives that may be considered in the action. These will include measures to: (1) Restrict the possession of shell stock inshore of the days-at-sea demarcation line north of 42°20′ N; (2) modify the process for setting scallop fishery annual catch limits; (3) modify scallop access areas consistent with potential changes to habitat and groundfish mortality closed areas; and (4) modify gear to further protect small scallops. The committee also will ask for approval of priorities for the 2017-18 research set-aside program (RSA). The Council may also discuss modifying its Scallop RSA policy. The Groundfish Committee will then review a progress report on a draft white paper about monitoring strategies for the commercial groundfish fishery. The committee will ask the Council to initiate Framework Adjustment 56, an action to set specifications for the US/CA stocks and witch flounder for fishing years 2017-18, modify the process used to set recreational management measures, establish a sub-annual catch limit for northern windowpane flounder in the scallop fishery, allocate northern windowpane flounder to groundfish sectors, modify the groundfish monitoring program, and possibly other measures. The committee will ask for approval of the range of alternatives to consider in a framework adjustment that would revise the Georges Bank haddock catch cap for the herring fishery and associated accountability measures. After lunch the Council will continue with the groundfish report and complete the discussion of the Georges Bank haddock catch cap in the Atlantic herring fishery. Last, the Atlantic Herring Committee will review outcomes of a recent workshop on an Atlantic herring acceptable biological catch control rule management strategy evaluation (MSE), and approve fishery objectives, performance metrics and features of control rules to be evaluated in the MSE.

Thursday, June 23, 2016

The final meeting day will begin with the Omnibus Industry-Funded Monitoring Amendment. The Council intends to select preferred alternatives for monitoring coverage targets in the Atlantic herring fishery and approve the draft Environmental Assessment for public comment. The Council chair will then give an update on the recent Trawl Survey Advisory Panel meeting. The Council will review an update to NOAA's Catch Share Guidance document and review/approve any new NEFMC comments on the revised draft, if necessary. The Council will discuss and approve comments on the Northeast Regional Planning Body's draft Northeast Regional Ocean Plan. Lastly, the Risk Policy Working Group will review final guidance on implementation of the NEFMC's approved risk policy. The Council will adjourn after it addresses any other outstanding business during the afternoon of June 23rd.

Although other non-emergency issues not contained in this agenda may come before this Council for discussion, those issues may not be the subject of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: May 31, 2016.
Tracey L. Thompson,
Acting Deputy Director, Office of Sustainable Fisheries, National Marine Fisheries Service.

[FR Doc. 2016-13132 Filed 6-2-16; 8:45 am]

BILLING CODE 3510-22-P